DEPARTMENT OF COMMERCE

International Trade Administration

[A-570-979]

Crystalline Silicon Photovoltaic Cells, Whether or Not Assembled Into Modules, From the People's Republic of China: Preliminary Results of Antidumping Duty Administrative Review, Partial Rescission of Antidumping Administrative Review, and Preliminary Determination of No Shipments; 2020-2021

AGENCY: Enforcement and Compliance, International Trade Administration, Department of Commerce.

SUMMARY: The U.S. Department of Commerce (Commerce) preliminarily determines that, with the exception of the nine companies with no shipments, 14 companies under review sold subject merchandise at less than normal value during the period of review (POR), December 1, 2020, through November 30, 2021, and one did not sell merchandise below normal value. Commerce also preliminarily determines that 19 companies subject to this review are part of the China-wide entity because they did not demonstrate their eligibility for a separate rate. Additionally, Commerce is rescinding this review with respect to 11 companies. Interested parties are invited to comment on these preliminary results of review.

DATES: Applicable January 6, 2023.

FOR FURTHER INFORMATION CONTACT: Jeff Pedersen, Dakota Potts or Paola Aleman Ordaz, AD/CVD Operations, Office IV, Enforcement and Compliance, International Trade Administration, Department of Commerce, 1401 Constitution Avenue NW, Washington, DC 20230; telephone: (202) 482-2769, (202) 482-0223, or (202) 482-4031, respectively.

SUPPLEMENTARY INFORMATION:

Background

On February 4, 2022, in response to review requests from multiple parties, Commerce initiated an administrative review of the antidumping duty order on crystalline silicon photovoltaic cells, whether or not assembled into modules (solar cells), from the People's Republic of China (China) with respect to 54 exporters.¹ The POR is December 1, 2020, through November 30, 2021. On August 23, 2022, Commerce extended the time limit for completing the preliminary results of this review.² The extended deadline for issuing the preliminary results of this review is December 30, 2022.

¹ See Initiation of Antidumping and Countervailing Duty Administrative Reviews, 87 FR 6487, 6489-90 (February 4, 2022) (Initiation Notice).

² See Memorandum, “Extension of Deadline for Preliminary Results of Antidumping Duty Administrative Review; 2020-2021,” dated August 23, 2022.

On March 18, 2022, Commerce selected two exporters to individually examine as mandatory respondents, Chint Solar (Zhejiang) Co., Ltd. (Chint Solar) and Shenzhen Glory Industries Co., Ltd. (Shenzhen Glory).³ During the course of this review, the mandatory respondents filed responses to Commerce's questionnaire and supplemental questionnaires, the petitioner (the American Alliance for Solar Manufacturing) commented on those responses, and multiple other companies for which Commerce initiated the review filed either no-shipment claims or separate rate applications or certifications. For details regarding the events that occurred subsequent to the initiation of the review, see the Preliminary Decision Memorandum.⁴

³ See Memorandum, “Respondent Selection,” dated March 18, 2022.

⁴ See Memorandum “Decision Memorandum for the Preliminary Results of the 2020-2021 Antidumping Duty Administrative Review of Crystalline Silicon Photovoltaic Cells, Whether or not Assembled into Modules, from the People's Republic of China,” issued concurrently with and hereby adopted by this notice (Preliminary Decision Memorandum).

Scope of the Order ⁵

⁵ See Crystalline Silicon Photovoltaic Cells, Whether or Not Assembled Into Modules, from the People's Republic of China: Amended Final Determination of Sales at Less Than Fair Value, and Antidumping Duty Order, 77 FR 73018 (December 7, 2012) (Order).

The merchandise covered by the order is crystalline silicon photovoltaic cells, and modules, laminates, and panels, consisting of crystalline silicon photovoltaic cells, whether or not partially or fully assembled into other products, including, but not limited to, modules, laminates, panels and building integrated materials.⁶ Merchandise covered by this order is currently classified under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010 of the Harmonized Tariff Schedule of the United States (HTSUS).⁷ Although the HTSUS subheadings are provided for convenience and customs purposes, our written description of the scope of the order is dispositive.

⁶ For a complete description of the scope of the order, see Preliminary Decision Memorandum.

⁷ During the POR, solar cells and modules were primarily classified under USHTS subheadings 8541.40.6015 and 8541.40.6025. These two categories were updated to USHTS subheadings 8541.42.0010 and 8541.43.0010 in 2022.

Preliminary Determination of No Shipments

We found no record evidence calling into question the no shipment claims of the following companies/company groupings: (1) BYD H.K. Co., Ltd.; (2) Canadian Solar International Limited, Canadian Solar Manufacturing (Changshu) Inc., Canadian Solar Manufacturing (Luoyang) Inc., CSI Cells Co., Ltd., CSI Solar Power (China) Inc., CSI-GCL Solar Manufacturing (Yancheng) Co., Ltd. (collectively, Canadian Solar); (3) CSI Modules (Dafeng) Co. Ltd.; (4) JA Solar Co., Ltd.; (5) JingAo Solar Co., Ltd. (JingAo); (6) Risen Energy Co. Ltd., Risen Energy (Changzhou) Co., Ltd., Risen (Wuhai) New Energy Co., Ltd., Zhejiang Twinsel Electronic Technology Co., Ltd., Risen (Luoyang) New Energy Co., Ltd., Jiujiang Shengchao Xinye Technology Co., Ltd., Jiujiang Shengzhao Xinye Trade Co., Ltd., Ruichang Branch, Risen Energy (HongKong) Co., Ltd.; (7) Shanghai BYD Co., Ltd.; (8) Xiamen Yiyusheng Solar Co., Ltd.; and (9) Zhejiang Aiko Solar Energy Technology Co., Ltd. Therefore, we have preliminarily determined that these nine companies/company groupings had no reviewable shipments of subject merchandise to the United States during the POR. For additional information regarding this preliminary determination, see the Preliminary Decision Memorandum. Consistent with our assessment in non-market economy (NME) administrative reviews,⁸ Commerce is not rescinding this review for these nine companies. Commerce intends to complete this review and issue appropriate instructions to CBP based on the final results of this review.

⁸ See Non-Market Economy Antidumping Proceedings: Assessment of Antidumping Duties, 76 FR 65694, 65694-95 (October 24, 2011) (NME Assessment of Dumping Duties).

Partial Rescission of Administrative Review

Pursuant to 19 CFR 351.213(d)(1), Commerce will rescind an administrative review, in whole or in part, if all parties that requested a review withdraw their requests within 90 days of the date of publication of the notice of initiation of the requested review. All parties timely withdrew their requests for an administrative review of the following companies: (1) Amass Freight International Co Ltd; (2) Boe Technology (HK) Limited; (3) Dongguan Sunworth Solar Energy Co.; (4) Jiangsu Crevo Science & Technology; (5) Jiangsu High Hope International; (6) Penglai Jutal Offshore Engineering; (7) Qinghuangdao Boostsolar Photovoltaic; (8) Shanghai Sansi Electronic; (9) Shanxi Hando Xinyu Technology Co., Ltd; (10) Zhejiang Garden Imp&Exp Co., Ltd.; and (11) Sunpower Corporation, System. Accordingly, Commerce is rescinding this review with respect to these companies, in accordance with 19 CFR 351.213(d)(1).

Preliminary Affiliation and Single Entity Determination

Consistent with Commerce's treatment of Chint Solar in the fifth administrative review of the Order, we have continued to find that Chint Solar is affiliated with certain companies, pursuant to section 771(33)(F) of the Tariff Act of 1930, as amended (the Act), and that they should be treated as a single entity, pursuant to 19 CFR 351.401(f)(1)-(2): (1) Chint Solar (Zhejiang) Co., Ltd.; (2) Chint New Energy Technology Co., Ltd. (f/k/a Chint New Energy Technology (Haining) Co., Ltd.; (3) Chint Solar (Hong Kong) Company Limited; (4) Chint Solar (Jiuquan) Co., Ltd.; (5) Haining Chint Solar Energy Technology Co., Ltd.; (6) Chint New Energy Technology (Yancheng) Co., Ltd.; (7) Chint Solar (Yancheng) Co., Ltd.; (8) Zhejiang Taiheng New Energy Co., Ltd.; and (9) Hangzhou Taifu New Energy Co., Ltd. For additional information, see the Preliminary Decision Memorandum.

Use of Facts Available (FA) and Adverse Facts Available (AFA)

Certain unaffiliated suppliers of solar cells and tollers of solar modules failed to provide factors of production (FOP) data for use in calculating the weighted-average dumping margin of Chint Solar. Because the unreported cell FOPs account for a small percentage of Chint Solar's total FOPs, and because Chint Solar produces merchandise comparable to the materials for which we are missing FOPs that we can substitute for the missing FOPs, we preliminarily determine to apply neutral facts available (FA), pursuant to section 776(a) of the Tariff Act of 1930, as amended (the Act), with respect to Chint Solar's unreported cell FOPs by substituting Chint Solar's own information for the unreported cell FOPs.

With regard to Shenzhen Glory, its solar cells suppliers failed to provide FOP data for use in calculating the weighted-average dumping margin of Shenzhen Glory. Because the unreported cell inputs FOPs represent a material amount of necessary information, and the solar cells suppliers are interested parties, we preliminarily determine to apply partial facts available with an adverse inference, pursuant to sections 776(a)(1), (2)(A)-(C), and 776(b) of the Act, with respect to Shenzhen Glory's missing solar cell inputs FOP data not reported by Shenzhen Glory's unaffiliated solar cell producers. For details regarding these determinations, see the Preliminary Decision Memorandum.

Separate Rates

We have preliminarily determined that the information placed on the record by Chint Solar and Shenzhen Glory, as well as by the other companies listed in the rate table in the “Preliminary Results of Review” section below, demonstrate that these companies are entitled to separate rate status.

We have preliminarily determined that the companies listed in Appendix II have not demonstrated their entitlement to a separate rate because they did not file a separate rate application or certification. Consequently, we are treating the companies listed in Appendix II as part of the China-wide entity. Because no party requested a review of the China-wide entity, the entity is not under review and the entity's rate (i.e., 238.95 percent ⁹) is not subject to change.¹⁰ For additional information regarding Commerce's preliminary separate rate determinations, see the Preliminary Decision Memorandum.

⁹ The China-wide entity rate was last changed in the first administrative review of this proceeding and has been the applicable rate for the entity in each subsequent review, including the most recently completed review. See Crystalline Silicon Photovoltaic Cells, Whether or Not Assembled Into Modules, from the People's Republic of China: Final Results of Antidumping Duty Administrative Review and Final Determination of No Shipments; 2012-2013, 80 FR 40998, 41002 (July 14, 2015) (AR1 Final); see also Crystalline Silicon Photovoltaic Cells, Whether or Not Assembled Into Modules, from the People's Republic of China: Final Results of Antidumping Duty Administrative Review and Final Determination of No Shipments; 2019-2020, 87 FR 38379, 38381 (June 28, 2022) (AR8 Final Results FR).

¹⁰ See Antidumping Proceedings: Announcement of Change in Department Practice for Respondent Selection in Antidumping Duty Proceedings and Conditional Review of the Nonmarket Economy Entity in NME Antidumping Duty Proceedings, 78 FR 65963 (November 4, 2013).

Dumping Margins for Separate Rate Companies

The statute and Commerce's regulations do not address what dumping margin to apply to respondents not selected for individual examination when Commerce limits its examination in an administrative review pursuant to section 777A(c)(2) of the Act. Generally, Commerce looks to section 735(c)(5) of the Act, which provides instructions for calculating the all-others rate in an investigation, for guidance when calculating the dumping margin for non-selected respondents that are not individually examined in an administrative review. Section 735(c)(5)(A) of the Act states that the all-others rate should be calculated by averaging the weighted-average dumping margins calculated for individually-examined respondents, excluding dumping margins that are zero, de minimis, or based entirely on facts available. Because we calculated a preliminary dumping margin of zero or de minimis for Shenzhen Glory, and a preliminary dumping margin that is not zero, de minimis, or based entirely on facts available for Chint Solar, we assigned the separate rate recipients a dumping margin equal to Chint Solar's preliminary dumping margin and excluded Shenzhen Glory's de minimis dumping margin consistent with Commerce's practice and section 735(c)(5)(A) of the Act.

Methodology

Commerce is conducting this administrative review in accordance with section 751(a)(1)(B) of the Act. In determining the dumping margins in this review, we calculated export prices in accordance with section 772 of the Act. Because Commerce has determined that China is an NME country,¹¹ within the meaning of section 771(18) of the Act, we calculated normal value in this review in accordance with section 773(c) of the Act.

¹¹ See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017 (China NME Status Memorandum)), unchanged in Certain Aluminum Foil from the People's Republic of China: Final Determination of Sales at Less Than Fair Value, 83 FR 9282 (March 5, 2018).

For a full description of the methodology underlying the preliminary results of this review, see the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

Preliminary Results of Review

We are assigning the following dumping margins to the firms listed below for the period December 1, 2020, through November 30, 2021:

Exporter | Weighted- average dumping margin (percent)
Chint Energy (Haining) Co., Ltd.; Chint Solar (Hong Kong) Company Limited; Chint Solar (Jiuquan) Co., Ltd.; Chint Solar (Zhejiang) Co., Ltd.; Chint New Energy Technology (Yancheng) Co., Ltd.; Chint Solar (Yancheng) Co., Ltd.; Haining Chint Solar Energy Technology Co., Ltd.; Zhejiang Taiheng New Energy Co., Ltd.; Hangzhou Taifu New Energy Co., Ltd | 28.98
Shenzhen Glory Industries Co., Ltd | 0.00
Review-Specific Average Rate Applicable to the Following Companies
Anji DaSol Solar Energy Science & Technology Co., Ltd | 28.98
BYD (Shangluo) Industrial Co., Ltd | 28.98
JA Solar Technology Yangzhou Co., Ltd | 28.98
Jinko Solar Import and Export Co., Ltd; Jinko Solar Co., Ltd.; Jinko Solar (Haining) Co., Ltd. (f/k/a Jinko Solar Technology (Haining) Co., Ltd.); Yuhuan Jinko Solar Co., Ltd.; Zhejiang Jinko Solar Co., Ltd.; Jiangsu Jinko Tiansheng Solar Co., Ltd | 28.98
LONGi Solar Technology Co., Ltd | 28.98
Shanghai JA Solar Technology Co., Ltd | 28.98
Shenzhen Topray Solar Co., Ltd | 28.98
Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited | 28.98
Trina Solar Co., Ltd.; Trina Solar (Changzhou) Science and Technology Co., Ltd.; Yancheng Trina Guoneng Photovoltaic Technology Co., Ltd.; Changzhou Trina Solar Yabang Energy Co., Ltd.; Turpan Trina Solar Energy Co., Ltd.; Hubei Trina Solar Energy Co., Ltd.; Trina Solar (Hefei) Science and Technology Co., Ltd.; Changzhou Trina Hezhong Photoelectric Co., Ltd | 28.98
Trina Solar (Singapore) Science and Technology Pte. Ltd | 28.98
Trina Solar Energy Development Company Limited | 28.98
Trina Solar Science & Technology (Thailand) Ltd | 28.98
Wuxi Tianran Photovoltaic Co., Ltd | 28.98

Disclosure and Public Comment

Commerce intends to disclose to parties to the proceeding the calculations performed for these preliminary results of review within five days of the date of publication of this notice in the Federal Register in accordance with 19 CFR 351.224(b). Interested parties may submit case briefs no later than 30 days after the date of publication of these preliminary results of review in the Federal Register.¹² Rebuttal briefs may be filed no later than seven days after case briefs are due and may respond only to arguments raised in the case briefs.¹³ Note that Commerce has temporarily modified certain of its requirements for serving documents containing business proprietary information until further notice.¹⁴

¹² See 19 CFR 351.309(c)(ii).

¹³ See 19 CFR 351.309(d).

¹⁴ See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

A table of contents, list of authorities used, and an executive summary of issues should accompany any briefs submitted to Commerce. The summary should be limited to five pages total, including footnotes.¹⁵

¹⁵ See 19 CFR 351.309(c)(2), (d)(2).

Interested parties who wish to request a hearing must submit a written request for a hearing to the Assistant Secretary for Enforcement and Compliance, U.S. Department of Commerce, within 30 days after the date of publication of this notice in the Federal Register.¹⁶ Requests should contain the party's name, address, and telephone number, the number of individuals from the requesting party's firm(s) that will attend the hearing, and a list of the issues the party intends to discuss at the hearing. Oral arguments at the hearing will be limited to issues raised in the briefs. If a request for a hearing is made, Commerce intends to hold the hearing at a date and time to be determined.¹⁷ Parties should confirm by telephone the date and time of the hearing two days before the scheduled date of the hearing.

¹⁶ See 19 CFR 351.310(c).

¹⁷ See 19 CFR 351.310(d).

All submissions must be filed electronically using ACCESS.¹⁸ An electronically filed document must be received successfully in its entirety by Commerce's electronic records system, ACCESS, by 5 p.m. Eastern Time (ET) on the due date.¹⁹ Unless otherwise extended, Commerce intends to issue the final results of this administrative review, which will include the results of its analysis of issues raised in any briefs, within 120 days of publication of these preliminary results of review in the Federal Register, pursuant to section 751(a)(3)(A) of the Act.

¹⁸ See generally 19 CFR 351.303.

¹⁹ See 19 CFR 351.303 (for general filing requirements); Antidumping and Countervailing Duty Proceedings: Electronic Filing Procedures; Administrative Protective Order Procedures, 76 FR 39263 (July 6, 2011).

Assessment Rates

Upon issuance of the final results of this review, Commerce will determine, and U.S. Customs and Border Protection (CBP) shall assess, antidumping duties on all appropriate entries covered by this review.²⁰ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

²⁰ See 19 CFR 351.212(b)(1).

For each individually examined respondent in this review whose weighted-average dumping margin in the final results of review is not zero or de minimis (i.e., less than 0.5 percent), Commerce intends to calculate importer/customer-specific assessment rates.²¹ Where the respondent reported reliable entered values, Commerce intends to calculate importer/customer-specific ad valorem assessment rates by aggregating the amount of dumping calculated for all U.S. sales to the importer/customer and dividing this amount by the total entered value of the merchandise sold to the importer/customer.²² Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²³ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²⁴

²¹ See Antidumping Proceedings: Calculation of the Weighted Average Dumping Margin and Assessment Rate in Certain Antidumping Proceedings: Final Modification, 77 FR 8101 (February 14, 2012) (Final Modification).

²² See 19 CFR 351.212(b)(1).

²³ Id.

²⁴ See Final Modification, 77 FR at 8103.

For the respondents that were not selected for individual examination in this administrative review, but which qualified for a separate rate, the assessment rate will be based on the weighted-average dumping margin(s) assigned to the respondent(s) selected for individual examination, as appropriate, in the final results of this review.²⁵

²⁵ See Drawn Stainless Steel Sinks from the People's Republic of China: Preliminary Results of the Antidumping Duty Administrative Review and Preliminary Determination of No Shipments: 2014-2015, 81 FR 29528 (May 12, 2016), and accompanying Issues and Decision Memorandum at 10-11, unchanged in Drawn Stainless Steel Sinks from the People's Republic of China: Final Results of Antidumping Duty Administrative Review; Final Determination of No Shipments; 2014-2015, 81 FR 54042 (August 15, 2016).

Pursuant to Commerce's refinement to its practice, for sales that were not reported in the U.S. sales database submitted by an exporter individually examined during this review, Commerce will instruct CBP to liquidate the entry of such merchandise at the dumping margin assigned to the China-wide entity.²⁶ Additionally, where Commerce determines that an exporter under review had no shipments of subject merchandise to the United States during the POR, any suspended entries of subject merchandise that entered under that exporter's CBP case number during the POR will be liquidated at the dumping margin assigned to the China-wide entity.

²⁶ See NME Assessment of Dumping Duties, for a full discussion of this practice.

In accordance with section 751(a)(2)(C) of the Act, the final results of this review shall be the basis for the assessment of antidumping duties on entries of merchandise covered by the final results of this review and for future deposits of estimated antidumping duties, where applicable.

Cash Deposit Requirements

Commerce will instruct CBP to require a cash deposit for antidumping duties equal to the weighted-average amount by which normal value exceeds U.S. price. The following cash deposit requirements apply to all subject merchandise from China entered, or withdrawn from warehouse, for consumption on or after the date of publication of the notice of the final results of this review in the Federal Register, as provided by section 751(a)(2)(C) of the Act: (1) for the exporters listed in the table above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the table above but that have separate rates, the cash deposit rate will continue to be the exporter-specific rate established in the most recently completed segment of this proceeding; (3) for all Chinese exporters of subject merchandise which have not been found to be entitled to a separate rate, the cash deposit rate will be the rate for the China-wide entity (i.e., 238.95 percent ²⁷) and (4) for all non-Chinese exporters of subject merchandise that have not received their own rate, the cash deposit rate will be the rate applicable to the China exporter that supplied that non-Chinese exporter. These cash deposit requirements, when imposed, shall remain in effect until further notice.

²⁷ See AR1 Final, 80 FR at 41002.

Notification to Importers

This notice serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties, and/or an increase in the amount of antidumping duties by the amount of the countervailing duties.

Notification to Interested Parties

We are issuing and publishing these preliminary results of review in accordance with sections 751(a)(1) and 777(i)(1) of the Act and 19 CFR 351.213 and 351.221(b)(4).

Dated: December 30, 2022.
Lisa W. Wang,
Assistant Secretary for Enforcement and Compliance.

Appendix I

List of Sections in the Preliminary Decision Memorandum

I. Summary

II. Background

III. Scope of the Order

IV. Partial Rescission of Administrative Review

V. Preliminary Determination of No Shipments

VI. Selection of Respondents

VII. Single Entity Treatment

VIII. Discussion of the Methodology

IX. Recommendation

Appendix II

Companies Preliminarily Determined To Be Part of the China-Wide Entity

1. De-Tech Trading Limited HK

2. Fuzhou Sunmodo New Energy Equipment

3. Hengdian Group DMEGC Magnetics Co. Ltd.

4. Jiawei Solarchina (Shenzhen) Co., Ltd.

5. Jiawei Solarchina Co., Ltd.

6. Jinko Solar International Limited

7. Lightway Green New Energy Co., Ltd.

8. Longi (HK) Trading Ltd.

9. Ningbo ETDZ Holdings, Ltd.

10. Ningbo Qixin Solar Electrical Appliance Co., Ltd.

11. Renesola Jiangsu Ltd.

12. ReneSola Zhejiang Ltd.

13. Shenzhen Sungold Solar Co., Ltd.

14. Sumec Hardware & Tools Co., Ltd.

15. Suntech Power Co., Ltd.

16. Taizhou BD Trade Co., Ltd.

17. tenKsolar (Shanghai) Co., Ltd

18. Wuxi Suntech Power Co., Ltd.; Luoyang Suntech Power Co., Ltd.

19. Yingli Green Energy International Trading Company Limited

[FR Doc. 2023-00069 Filed 1-5-23; 8:45 am]

BILLING CODE 3510-DS-P